DEPARTMENT OF TRANSPORTATION

Office of the Secretary

49 CFR Part 71

[Docket No. OST-2001-10287 and OST-2001-13361]

RIN 2105-AD03 and 2105-AD17

Relocation of Standard Time Zone Boundary in the State of North Dakota: Morton County and Sioux County

AGENCY: Office of the Secretary, DOT.

ACTION: Final rule; technical correction and withdrawal of final rule.

SUMMARY: In a final rule published on July 22, 2003, the Department of Transportation (DOT) moved all of Morton County, North Dakota to the central time zone. Prior to this action, the eastern portion of the county was in central time and the western portion was in mountain time. Paragraph 2 of the amendatory language of the final rule inadvertently included references to the incorrect section number and title. This final rule corrects that error.

In addition, in a final rule published the same day, DOT changed the time zone boundary for Sioux County, ND. Each rule only changed the boundary description for the respective county under consideration. Because both rules are effective on the same date and involve the same paragraph of regulatory text, the inconsistency will cause confusion. Therefore, this rule corrects the regulatory text to reflect the simultaneous changes made in both counties.

DATES: The correction of the final rule is effective 2 a.m. MDT Sunday, October 26, 2003.

The withdrawal of the July 22, 2003, final rule on Morton County is made as of August 18, 2003.

FOR FURTHER INFORMATION CONTACT: Joanne Petrie, Office of the Assistant General Counsel for Regulation and Enforcement, U.S. Department of Transportation, Room 10424, 400 Seventh Street, SW., Washington, DC 20590, (202) 366-9315 or by e-mail at joanne.petrie@ost.dot.gov.

SUPPLEMENTARY INFORMATION: On July 22, 2003, the Department of Transportation issued a final rule changing the time zone boundary in Morton County, ND. Paragraph 2 of the amendatory language (68 FR 43339, column one) inadvertently referenced the incorrect section number. It stated that paragraph (a) of section 71.5 was being amended. The correct reference is section 71.7. In addition, the title of the section was incorrect. The correct title of section 71.7 is “Boundary line between central and mountain zones.”

In addition, in a final rule published the same day, DOT changed the time zone boundary for Sioux County, ND. Each rule only changed the boundary description for the respective county under consideration. Because both rules are effective on the same date and involve the same paragraph of regulatory text, the inconsistency will cause confusion in the Code of Federal Regulations. Therefore, this rule corrects the regulatory text to reflect the simultaneous changes made in both counties. This action is not intended to impact the substance of the underlying decision. Effective October 26, 2003, all of Sioux County east of State Highway 31 will be in the central time zone. Similarly, effective October 26, 2003, all of Morton County will be moved into the central time zone.

Withdrawal of the final rule concerning Morton County published on July 22, 2003 (68 FR 43336) is made as of August 18, 2003.

49 CFR part 71 is amended as follows:

PART 71—[AMENDED]

1. The authority citation for part 71 continues to read:

Authority: Secs. 1-4, 40 Stat. 450, as amended; sec. 1, 41 Stat. 1446, as amended; secs. 2-7, 80 Stat. 107, as amended; 100 Stat. 764; Act of Mar. 19, 1918, as amended by the Uniform Time Act of 1966 and Pub. L. 97-449, 15 U.S.C. 260-267; Pub. L. 99-359; Pub. L. 106-564, 15 U.S.C. 263, 114 Stat. 2811; 49 CFR 159(a), unless otherwise noted.

2. In § 71.7, paragraph (a) is corrected to read as follows:

§ 71.7 Boundary line between central and mountain zones.

(a) Montana-North Dakota. Beginning at the junction of the Montana-North Dakota boundary with the boundary of the United States and Canada southerly along the Montana-North Dakota boundary to the Missouri River; thence southerly and easterly along the middle of that river to the midpoint of the confluence of the Missouri and Yellowstone Rivers; thence southerly and easterly along the middle of the Yellowstone River to the north boundary of T. 150 N., R. 104 W.; thence east to the northwest corner of T. 150 N., R. 102 W.; thence south to the southwest corner of T. 149 N., R. 102 W.; thence east to the northwest corner of T. 148 N., R. 102 W.; thence south to the northwest corner of 147 N., R. 102 W.; thence east to the southwest corner of T. 148 N., R. 101 W., thence south to the middle of the Little Missouri; thence easterly and northerly along the middle of that river to the midpoint of its confluence with the Missouri River; thence southerly and easterly along the middle of the Missouri River to the midpoint of its confluence with the northern land boundary of Oliver County; thence west along the northern county line to the northwest boundary; thence south along the western county line to the southwest boundary; thence west along the northern county boundary of Morton County; thence south along the western county boundary of Morton County and then east and south along the southern county boundary to the intersection with the boundary with Sioux County; thence west and south along the northern boundary of Sioux County to the center of State Highway 31; thence south along the center of State Highway 31 to the state border with South Dakota; thence east along the southern boundary of Sioux County to the middle of the Missouri River.

* * * * *

Issued in Washington, DC on August 11, 2003.
Rosalind A. Knapp,
Deputy General Counsel.

[FR Doc. 03-21105 Filed 8-15-03; 8:45 am]

BILLING CODE 4910-62-U